DEPARTMENT OF ENERGY

Federal Energy Regulatory Commission

[Docket No. CP02-232-000]

Dominion Transmission, Inc.; Notice of Application

May 22, 2002.

Take notice that on May 8, 2002, Dominion Transmission, Inc. (“DTI”), 445 West Main Street, Clarksburg, West Virginia 26301, filed in Docket No. CP02-232-000 an application pursuant to Sections 157.205 and 157.214 of the Commission's Rules for a certificate of public convenience and necessity authorizing DTI to increase the storage capacity (without native gas) of the Fink-Kennedy/Lost Creek Storage Complex by approximately 10.1 Bcf, from 151.432 to 161.5 Bcf. The Fink- Kennedy/Lost Creek Storage Complex is located in central West Virginia, primarily in Lewis County.

Copies of this filing are on file with the Commission and are available for public inspection. This filing may also be viewed on the Web at http: //www.ferc.gov using the “Rims” link, select “Docket #” and follow the instructions (call 202-208-2222 for assistance).

DTI seeks authorization to increase the maximum storage capacity of the Fink- Kennedy/Lost Creek Storage Complex from its currently certificated capacity of 151.432 (without native gas) to potentially 161.5 Bcf (without native gas). It is anticipated that Lost Creek region of the reservoir will increase in capacity by approximately 3 Bcf, and the Fink-Kennedy region of the reservoir will increase in capacity by approximately 7 Bcf. The currently certificated maximum stabilized shut-in wellhead pressure in lost Creek is 975 psig and Fink and Kennedy is 1,000 psig. DTI is requesting no changes to these maximum stabilized shut-in wellhead pressures. As there is no increase in the maximum stabilized shut-in wellhead pressures, DTI does not believe that the increase in storage capacity will cause any additional migration of storage gas.

Any question regarding the application should be directed to Sean R. Sleigh, certificate Manager, Dominion Transmission, Inc., at: (304) 627-3462.

Any person or the Commission's staff may, within 45 days after issuance of the instant notice by the Commission, file pursuant to Rule 214 of the Commission's Procedural Rules (18 CFR 385.214) a motion to intervene or notice of intervention and, pursuant to Section 157.205 of the Regulations under the Natural Gas Act (18 CFR 157.205), a protest to the request. If no protest is filed within the time allowed therefore, the proposed activity shall be deemed to be authorized effective the day after the time allowed for filing a protest. If a protest is filed and not withdrawn within 30 days after the time allowed for filing a protest, the instant request shall be treated as an application for authorization pursuant to section 7 of the Natural Gas Act.

Comments, protest and interventions may be filed electronically via the Internet in lieu of paper. See, 18 CFR 385.2001(a)(1)(iii) and the instructions on the Commission's Web site under the “e-filing” link.

Magalie R. Salas,
Secretary.

[FR Doc. 02-13435 Filed 5-29-02; 8:45 am]

BILLING CODE 6717-01-P